DEPARTMENT OF THE INTERIOR

Bureau of Land Management

[WYW 182138]

Notice of Application for Withdrawal and Opportunity for Public Meeting, Medicine Wheel/Medicine Mountain National Historic Landmark; Wyoming

AGENCY: Bureau of Land Management, Interior.

ACTION: Notice.

SUMMARY: The United States Department of Agriculture (USDA) Forest Service (FS) has filed an application with the Bureau of Land Management (BLM) requesting that the Secretary of the Interior withdraw approximately 4,513 acres of National Forest System land from mining in order to protect and preserve existing heritage resources and American Indian spiritual values within the formally designated Medicine Wheel/Medicine Mountain National Historic Landmark (NHL). Publication of this notice segregates the public lands for up to 2 years from location and entry under the United States mining laws and gives the public an opportunity to comment on the application and to request a public meeting. The land has been and will remain open to such forms of disposition allowed by law on National Forest System land and to mineral leasing.

DATES: Comments and requests for a public meeting must be received on or before June 19, 2014.

ADDRESSES: Comments and meeting requests should be sent to the BLM Wyoming State Office, 5353 Yellowstone Road, Cheyenne, Wyoming 82009.

FOR FURTHER INFORMATION CONTACT: Gayle Laurent, USDA Forest Service, Region 2, Supervisors Office, 2013 Eastside Second Street, Sheridan, Wyoming 82801; telephone 307-674-2656; email glaurent@fs.fed.us; or Janelle Wrigley, BLM Wyoming State Office, 5353 Yellowstone Road, Cheyenne, Wyoming 82009; telephone 307-775-6257; email jwrigley@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The applicant is the USDA Forest Service. The application requests the Secretary of the Interior to withdraw, subject to valid existing rights, the following described National Forest System land from location and entry under the United States mining laws, but not from the mineral leasing laws, for a period of 20 years, to protect and preserve existing heritage resources and American Indian spiritual values within the formally designated Medicine Wheel/Medicine Mountain NHL:

Sixth Principal Meridian, Wyoming

T. 56 N., R. 91 W.,

Sec. 19, lot 1.

T. 56 N., R. 92 W.,

Sec. 8, SE¼;

Sec. 9, S½;

Sec. 10, W½SW¼;

Sec. 13, S½NW¼ and SW¼;

Sec. 14, W½NW¼ and S½;

Sec. 15, E½, NW¼, N½SW¼, and SE¼SW¼;

Sec. 16, N½, SW¼, N½SE¼, and SW¼SE¼;

Sec. 17, E½;

Sec. 20, NE¼;

Sec. 21, N½;

Sec. 22, N½ and N½SE¼, excepting a strip of land 200 feet on each side of the center line of the Medicine Wheel Road, No. 104 in the N½;

Sec. 23, N½, N½SW¼, and N½SE¼, excepting a strip of land 200 feet on each side of the center line of the Medicine Wheel Road, No. 104 in the N½, N½SW¼, and N½SE¼;

Sec. 24, lots 1 and 2, W½NE¼, and W½, excepting a strip of land 200 feet on each side of the center line of the Medicine Wheel Road, No. 104 in the W½;

Sec. 25, N½NW¼, excepting a strip of land 200 feet on each side of the center line of the Medicine Wheel Road, No. 104 in the N½NW¼.

The area described contains approximately 4,513 acres in Big Horn County.

The purpose of the proposed withdrawal is to protect and preserve existing heritage resources and American Indian spiritual values within the formally designated Medicine Wheel/Medicine Mountain NHL. The original NHL boundary, designated on September 6, 1970, encompassed an area 110 acres in size surrounding the central Medicine Wheel feature. The area was designated for its archaeological significance, as one of the largest and best preserved medicine wheels in the country. The NHL received a name and boundary change from the Secretary of the Interior in 2011, which increased the site to almost 4,000 acres. The reason for the difference in acreage is because the boundary of the NHL could not be legally described in the FRN. The BLM supervisory cadastral surveyor worked with the FS surveyor to create a withdrawal boundary with a legal description that could be described in the FRN.

The use of a right-of-way, interagency or cooperative agreement would not adequately constrain nondiscretionary uses which could result in permanent loss of significant values and irreplaceable resources.

There are no suitable alternative sites as the described lands contain the heritage resources and American Indian spiritual values in need of protection.

No water rights would be needed to fulfill the purpose of the requested withdrawal.

Records relating to the application may be examined by contacting Janelle Wrigley, BLM Wyoming State Office, at the above address; telephone 307-775-6257; email jwrigley@blm.gov.

For the period until June 19, 2014, all persons who wish to submit comments, suggestions or objections in connection with the requested withdrawal application may present their views in writing to the BLM Wyoming State Office at the address noted above. Comments, including names and street addresses of respondents, will be available for public review at the BLM Wyoming State Office at the address above during regular business hours 8:00 a.m. to 4:30 p.m., Monday through Friday, except Federal holidays.

Before including your address, phone number, email address, or other personal identifying information in your comment, you should be aware that your entire comment—including personal identifying information—may be made publicly available at any time. While you can ask us in your comment to withhold your personal identifying information from public review, we cannot guarantee that we will be able to do so. Notice is hereby given that an opportunity for a public meeting is afforded in connection with the proposed withdrawal. All interested persons who desire a public meeting for the purpose of being heard on the proposed withdrawal must submit a written request to the BLM Wyoming State Director no later than June 19, 2014. If the authorized officer determines that a public meeting will be held, a notice of the time and place will be published in the Federal Register and through local newspapers, at least 30 days before the scheduled date of the meeting.

For a period until June 19, 2016, the lands described in this notice will be segregated from location and entry under the United States mining laws unless the application is denied or cancelled or the withdrawal is approved prior to that date. Licenses, permits, cooperative agreements or discretionary land use authorizations of a temporary nature which will not significantly impact the values to be protected by the withdrawal may be allowed with the approval of the authorized officer of the USDA FS during the temporary segregative period.

This application will be processed in accordance with the regulations set forth in 43 CFR 2310.3.

Donald A. Simpson,
Wyoming State Director.

[FR Doc. 2014-06184 Filed 3-20-14; 8:45 am]

BILLING CODE 4310-11-P